GENERAL SERVICES ADMINISTRATION

[Notice-MA-2018-04; Docket No. 2018-0002, Sequence No. 8]

Relocation Allowances: Taxes on Travel, Transportation, and Relocation Expenses

AGENCY: Office of Government-wide Policy (OGP), General Services Administration (GSA).

ACTION: Notice of Federal Travel Regulation (FTR) Bulletin 18-05, Relocation Allowances—Taxes on Travel, Transportation, and Relocation Expenses.

SUMMARY: The purpose of this notice is to inform Federal agencies that FTR Bulletin 18-05, pertaining to travel, transportation, and relocation allowances impacted by recent changes to Federal tax law, has been published and is now available online at www.gsa.gov/ftrbulletin.

DATES:

Effective: May 29, 2018.

Applicability: This notice applies to travel, transportation, and relocation expenses paid on or after January 1, 2018.

FOR FURTHER INFORMATION CONTACT: For clarification of content, please contact Mr. Rick Miller, Office of Government-wide Policy, Office of Asset and Transportation Management, at 202-501-3822, or by email at travelpolicy@gsa.gov. Please cite Notice of FTR Bulletin 18-05.

Dated: May 22, 2018.
Alexander Kurien,
Deputy Associate Administrator, Office of Asset and Transportation Management, Office of Government-wide Policy.

[FR Doc. 2018-11443 Filed 5-25-18; 8:45 am]

BILLING CODE 6820-14-P